ENVIRONMENTAL PROTECTION AGENCY

[FRL-7131-7]

Request for Applications: Decision-Making and Valuation for Environmental Policy

AGENCY: Environmental Protection Agency.

ACTION: Notice of Requests for Applications.

SUMMARY: The purpose of this notice is to advise the public that the participating agencies, the U.S. Environmental Protection Agency and the National Science Foundation, are soliciting individual research proposals of up to 3 years duration, that will contribute to the development of practical approaches for estimating the benefits and costs of environmental policies and improving decision making about environmental issues. This document details the requirements for applications for research support that will be considered by the Federal research partnership. Grants will be awarded following peer review.

DATES: Applications must be received by EPA/NCER no later than 4 p.m. Eastern Time on May 15, 2002.

FOR FURTHER INFORMATION CONTACT: Technical Contacts: Susan Carrillo; Phone: (202) 564-4664; e-mail: carrillo.susan@epa.gov, Robert O'Connor; Phone: (703) 292-7263; e-mail: roconnor@nsf.gov, Cheryl Eavey; Phone: (703) 292-7269; email ceavey@nsf.gov Administrative contact: Susan Carrillo; Phone: (202) 564-4664; email: carrillo.susan@epa.gov, The complete program announcement can be accessed on the Internet at http://www.epa.gov/ncerqa, under “announcements.” The required forms for applications with instructions are accessible on the Internet at http://es.epa.gov/ncerqa/rfa/forms/downlf.html. Forms may be printed from this site.

Dated: January 15, 2002.
John C. Puzak,
Acting Director, National Center for Environmental Research.

[FR Doc. 02-1617 Filed 1-22-02; 8:45 am]

BILLING CODE 6560-50-P